DEPARTMENT OF THE INTERIOR

Geological Survey

National Satellite Land Remote Sensing Data Archive Advisory Committee, Committee Meeting

AGENCY: U.S. Geological Survey, Interior.

ACTION: Notice of meeting.

SUMMARY: Pursuant to Public Law 92-463, the National Satellite Land Remote Sensing Data Archive (NSLRSDA) Advisory Committee will meet at or near the U.S. Geological Survey (USGS) National Center in Reston, VA. The Committee, comprised of 15 members from academia, industry, government, information science, natural science, social science, and policy/law, will provide the USGS with advice and consultation on defining and accomplishing the NSLRSDA'a archiving and access goals to carry out the requirements of the Land Remote Sensing Policy Act; on priorities of the NSLRSDA's tasks; and, on issues of archiving, data management, science, policy, and public-private partnerships.

Topics to be reviewed and discussed by the Committee include determining the content of and upgrading the basic data set as identified by the Congress; metadata content and accessibility; product characteristics, availability, and delivery; and archiving, data access, and distribution policies.

DATES AND LOCATION: April 26-28, 2000, commencing at 8:45 a.m. April 26 and adjourning at 2 pm on April 28. Meeting will be held at the USGS National Center in Reston, Virginia, Room BA102A on April 26-27. On April 28, the meeting will be held at the Hyatt Dulles.

FOR FURTHER INFORMATION CONTACT: Mr. Thomas M. Holm, Acting Chief, Data Services Branch, U.S. Geological Survey, EROS Data Center, Sioux Falls, South Dakota, 57198 at (605) 594-6142 or email at holm@usgs.gov.

SUPPLEMENTARY INFORMATION: Meetings of the National Satellite Land Remote Sensing Data Archive Advisory Committee are open to the public. Previous Committee meeting minutes are available for public review at http://edc.usgs.gov/programs/nslrsda/advcomm.html.

Dated: April 5, 2000.
Richard E. Witmer,
Chief Geographer.

[FR Doc. 00-8854 Filed 4-10-00; 8:45 am]

BILLING CODE 4310-Y7-M